DEPARTMENT OF TRANSPORTATION

Pipeline and Hazardous Materials Safety Administration

[Docket No. PHMSA-2010-0088]

Pipeline Safety: Information Collection Activities

AGENCY: Pipeline and Hazardous Materials Safety Administration, DOT.

ACTION: Notice.

SUMMARY: In compliance with the Paperwork Reduction Act, PHMSA announces that the currently approved Information Collection Request (OMB Control No. 2137-0614) abstracted below, is being forwarded to the Office of Management and Budget (OMB) for renewal and approval.

DATES: Written comments should be submitted by June 28, 2010.

ADDRESSES: Comments should identify the associated OMB Approval Number “2137-0614” Docket “PHMSA-2010-0088” and be sent to OMB by any of the following methods:

• Fax: 1-202-395-6566. ATTN: Desk Officer for U.S. Department of Transportation (DOT).

• Mail: Office of Information and Regulatory Affairs (OIRA), OMB, 726 Jackson Place, NW., Washington, DC 20503, ATTN: Desk Officer for DOT.

• E-mail: OIRA, OMB, at the following address: oira_submissions@omb.eop.gov. ATTN: Desk Officer for DOT.

FOR FURTHER INFORMATION CONTACT: Cameron Satterthwaite, Transportation Regulations Specialist, 202-366-1319.

SUPPLEMENTARY INFORMATION: In compliance with the Paperwork Reduction Act, PHMSA will be forwarding the Information Collection Request titled: “Pipeline Safety: New Reporting Requirements for Hazardous Liquid Pipeline Operators: Hazardous Liquid Annual Report” (OMB Control No. 2137-0614), to OMB for renewal and approval for another three years. Earlier, a Federal Register Notice with a 60-day comment period was published March 23, 2010, (75 FR 13807). The agency did not receive any comments. The information collection is specified as follows:

Title of Information Collection: Pipeline Safety: New Reporting Requirements for Hazardous Liquid Pipeline Operators: Hazardous Liquid Annual Report.

OMB Control Number: 2137-0614.

Type of Request: Renewal of a currently approved information collection.

Abstract: Operators of hazardous liquid pipelines must prepare and file annual reports regarding the condition of their systems. The data provides the basis for more efficient and meaningful analyses of the safety status of hazardous liquid pipelines. PHMSA uses the information to compile a national pipeline inventory, identify and determine the scope of safety problems, and target inspections.

Affected Public: Operators of hazardous liquid pipelines.

Estimated Number of Responses: 447.

Estimated Total Annual Burden Hours: 5,364 hours.

Frequency of Collection: Annual.

It should be noted that this information collection, which includes the Hazardous Liquid Annual Report (PHMSA F 7000-1), is being revised in a rulemaking titled: “Pipeline Safety: Updates to Pipeline and Liquefied Natural Gas Reporting Requirements (One Rule)”. The Notice of Proposed Rulemaking for the One Rule was published in the Federal Register on July 2, 2009, (74 FR 31675) and comments were submitted to Docket No. PHMSA-2008-0291. The purpose of this notice is only for an extension of the currently approved referenced information collection with no revisions.

Issued in Washington, DC, on May 26, 2010.
Jeffrey D. Wiese,
Associate Administrator for Pipeline Safety.

[FR Doc. 2010-13017 Filed 5-27-10; 8:45 am]

BILLING CODE 4910-60-P